DEPARTMENT OF COMMERCE

National Oceanic and Atmospheric Administration

RIN 0648-XD265

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS (Assistant Regional Administrator), has made a preliminary determination that an Exempted Fishing Permit (EFP) application contains all of the required information and warrants further consideration. This EFP would allow commercial fishing vessels from the Cape Cod Commercial Fishermen's Alliance to possess and land barndoor skate, a prohibited species, for the purpose of collecting scientific data on barndoor skate and investigate a premium market for barndoor skate seafood products. Regulations under the Magnuson-Stevens Fishery Conservation and Management Act require publication of this notification to provide interested parties the opportunity to comment on applications for proposed EFPs.

DATES: Comments must be received on or before May 23, 2014.

ADDRESSES: You may submit written comments by any of the following methods:

• Email: NMFS.GAR.EFP@noaa.gov. Include in the subject line “Comments on Barndoor Skate EFP.”

• Mail: John K. Bullard, Regional Administrator, NMFS, Greater Atlantic Regional Fisheries Office, 55 Great Republic Drive, Gloucester, MA 01930. Mark the outside of the envelope “Comments on Barndoor Skate EFP.”

• Fax: (978) 281-9135.

FOR FURTHER INFORMATION CONTACT: Carly Bari, Fisheries Management Specialist, 978-281-9224, carly.bari@noaa.gov.

SUPPLEMENTARY INFORMATION: The Cape Cod Commercial Fishermen's Alliance submitted a complete application for an EFP on April 11, 2014. The EFP would authorize 14 vessels to possess and land barndoor skate, which would otherwise be prohibited in accordance with 50 CFR 648.322(e)(1).

The project entitled “Research into life history characteristics, catch composition, and fishing mortality of barndoor skate (Dipturus laevis) in existing non-directed gillnet fisheries and initial analysis and development of market for barndoor skate seafood products,” would allow fishermen to retain barndoor skate on their Northeast multispecies and monkfish fishing trips to obtain scientific data including where and when barndoor skates are caught, collect barndoor skate length, weight, and sex data, and collect fish health condition data. In addition, vessels would have restricted authorization to land barndoor skate to evaluate if a premium market can be developed for barndoor skate seafood products (primarily wings).

There has been increasing evidence in the Northeast Fisheries Science Center trawl surveys and observed discard data that barndoor skate populations have been recovering. However, the stock is not yet rebuilt. The applicant has requested the exemption to improve the understanding of the barndoor skate resource, and to investigate a premium barndoor skate market without increasing barndoor skate mortality.

Data would be collected by participating vessels using gillnet gear for at least 25 trips during each quarter of the fishing year. The study area would include the late winter/early spring fishing grounds in southern New England and the summer/fall fishing grounds on Georges Bank. All trips would take place in the following statistical areas: 521, 526, 533, 534, 537, and 541. Biological data would be collected for the first 10 barndoor skate caught for each net hauled, and for the first 50 barndoor skate caught on each trip. For each haul on a research trip, participating vessels would document gear characteristics, haul time, location, depth, air temperature, estimated total catch, catch composition, as well as sex, length, and weight. In addition, a health index protocol developed for skates would be used to characterize the health of barndoor skates that are caught in an attempt to improve the understanding of barndoor skate mortality. A technician would accompany some of the trips to ensure consistency and accuracy of the data collected.

To evaluate a barndoor skate wing market, investigators would track barndoor and non-barndoor skate landings, ex-vessel price, and market volume on a quarterly basis. Efforts will also be made to develop or improve best handling practices to increase product quality and value. All intact barndoor skates, which have no significant visible gear-related trauma, would be measured and returned to the water as quickly as possible. Barndoor skates that are brought on-board moribund or with moderate or extensive trauma will be retained for sale commercially. The applicant states that authorization to land barndoor skates that are in poor condition, which would otherwise be discarded, will not increase the overall barndoor skate mortality. Vessels would be limited to 500 lb (227 kg) of barndoor skate wings (approximately 1,135 lb (515 kg) whole weight) per trip and they would need to be stored and sold separately from other skate products. Barndoor skates caught in excess of the possession limit would be discarded as soon as practicable. The project would be limited to a maximum weight of 168,000 lb (76.2 mt) of barndoor skate wing landings, an amount of barndoor skate deemed necessary to achieve the research objectives, while mitigating potential impacts to the barndoor skate resource.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: May 5, 2014.
Emily H. Menashes,
Acting Director, Office of Sustainable Fisheries, National Marine Fisheries Service.

[FR Doc. 2014-10593 Filed 5-7-14; 8:45 am]

BILLING CODE 3510-22-P